DEPARTMENT OF THE INTERIOR

Bureau of Land Management

[LLORS00300; L63100000.ES0000.15XL1116AF; HAG 15-0036]

Classification and Lease for Recreation and Public Purposes Act of Public Land in Tillamook County, OR

AGENCY: Bureau of Land Management, Interior.

ACTION: Notice of realty action.

SUMMARY: The Bureau of Land Management (BLM) has examined and found suitable for classification and lease to the Pacific City Joint Water-Sanitary Authority (PCJWSA) under the provisions of the Recreation and Public Purposes (R&PP) Act, as amended, and the Taylor Grazing Act, approximately 77.75 acres of public land in Tillamook County, Oregon. The PCJWSA proposes to use the land for an emergency response evacuation area and a public recreation area.

DATES: Interested parties may submit written comments regarding the proposed classification and lease of public land on or before November 19, 2015.

ADDRESSES: Written comments concerning this notice should be addressed to the Field Manager, BLM, Tillamook Field Office, 4610 Third Street, Tillamook, OR 97141. The Environmental Assessment documents pertinent to this proposal may be examined at http://www.blm.gov/or/districts/salem/plans/nepa-details.php?id=2782.

FOR FURTHER INFORMATION CONTACT: Karen Schank, Field Manager, BLM Tillamook Field Office, at 503-815-1127. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act (43 U.S.C. 315(f)) and Executive Order No. 6910, the following described public land has been examined and found suitable for classification and lease, but not conveyance, under the provisions of the R&PP Act, as amended (43 U.S.C. 869 et seq.).

Willamette Meridian, Oregon

T. 4 S., R. 10 W.,

Sec. 19, Lots 1, 17, and 18.

The land described above contains approximately 77.75 acres, more or less, in Tillamook County, Oregon.

The PCJWSA proposes to use the land for an emergency response evacuation area and a public recreation area. The emergency response evacuation area will include an operations/evacuation shelter, and the addition of an access road to an evacuation parking area. The public recreation area will include hiking trails only. Additional detailed information pertaining to this application, plan of development, and site plan are contained in case file OROR 066047, located in the BLM Salem District Office at 1717 Fabry Road SE., Salem, Oregon 97306.

The land described above is not required for any Federal purpose. The lease is consistent with the BLM Salem District Office Resource Management Plan, Approved May 1995, and would be in the public interest. The lease will be subject to the provisions of the R&PP Act and applicable regulations of the Secretary of the Interior. The lease will also be subject to all valid existing rights documented on the official public land records at the time of lease issuance.

Upon publication of this notice in the Federal Register, the land will be segregated from all other forms of appropriation under the public land laws, including the general mining laws except for lease under the R&PP Act, leasing under the mineral leasing laws, and disposals under the mineral material laws.

Classification Comments: Interested persons may submit written comments involving the suitability of the land for development of an emergency response evacuation area, and a public recreation area, including whether the land is physically suited for the proposal, whether the use will maximize the future use or uses of the land, whether the use is consistent with local planning and zoning, and/or if the use is consistent with State and Federal programs. All comments will be considered.

Application Comments: Interested parties may also submit comments regarding the specific uses proposed in the application and plan of development, and whether the BLM followed proper administrative procedures in reaching the decision to lease under the R&PP Act or any other factor not directly related to the suitability of the land for this R&PP use.

Only written comments submitted by postal service or overnight mail to the Field Manager, BLM, Tillamook Field Office, will be considered properly filed. Electronic mail, facsimile, or telephone comments will not be considered properly filed. Comments, including names, street addresses, and other contact information of respondents will be available for public review. Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Oregon State Director who may sustain, vacate, or modify this realty action. In the absence of any adverse comments, the classification of the land described in this realty action becomes the determination of the Department of the Interior and is effective on December 4, 2015. The land will not be available for lease until after the classification becomes effective.

Authority: 43 CFR 2741.5.

Karen Schank,
Tillamook Field Manager.

[FR Doc. 2015-25288 Filed 10-2-15; 8:45 am]

BILLING CODE 4310-33-P